DEPARTMENT OF TRANSPORTATION

Federal Aviation Administration

14 CFR Part 71

[Docket No. FAA-2006-25069; Airspace Docket No. 06-AWP-9]

RIN 2120-AA66

Modification of Class E Airspace; Honolulu International Airport, HI

AGENCY: Federal Aviation Administration (FAA), DOT.

ACTION: Final rule.

SUMMARY: This action modifies the Class E airspace area at Honolulu International Airport, HI. The establishment of an Area Navigation (RNAV) Required Navigation Performance (RNP) Instrument Approach Procedure (IAP) to Runway (RWY) 08L and 26L to Honolulu International Airport, Honolulu, HI has made this action necessary. Additional controlled airspace extending upward from 700 feet or more above the surface of the earth is needed to contain aircraft executing this RNAV (RNP) IAP to RWY 08L and 26L to Honolulu International Airport. The intended effect of this action is to provide adequate controlled airspace for Instrument Flight Rules operations at Honolulu International Airport, Honolulu, HI.

DATES: Effective Date: 0901 UTC January 18, 2007. The Director of the Federal Register approves this incorporation by reference action under title 1, Code of Federal Regulations, part 51, subject to the annual revision of FAA Order 7400.9 and publication of conforming amendments.

FOR FURTHER INFORMATION CONTACT: The Office of the Regional Western Terminal Operations, Federal Aviation Administration, at 15000 Aviation Boulevard, Lawndale, California 90261, telephone (310) 725-6502.

SUPPLEMENTARY INFORMATION:

History

On August 2, 2006, the FAA proposed to amend 14 CFR part 71 by modifying the Class E airspace area at Honolulu International Airport (06 FR 43680). Additional controlled airspace extending upward from 700 feet or move above the surface is needed to contain aircraft executing the RNAV (RNP) IAP RWY 08L and 26L to Honolulu International Airport. This action will provide adequate controlled airspace for aircraft executing the RNAV (RNP) IAP RWY 08L and 26L to Honolulu International Airport, Honolulu, HI.

Interested parties were invited to participate in this rulemaking proceeding by submitting written comments on the proposal to the FAA. No comments to the proposal were received. Class E airspace designations for airspace extending from 700 feet or more above the surface of the earth are published in paragraph 6005 of FAA Order 7400.9P, dated September 1, 2006, and effective September 15, 2006, which is incorporated by reference in 14 CFR 71.1. The Class E airspace designation listed in this document will be published subsequently in the Order.

The Rule

This amendment to 14 CFR part 71 modifies the Class E airspace area at Honolulu International Airport, HI. The establishment of a RNAV (RNP) IAP RWY 08L and 26L to Honolulu International Airport has made this action necessary. The effect of this action will provide adequate airspace executing the RNAV (RNP) IAP RWY 08L and 26L to Honolulu International Airport, Honolulu, HI.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulation Evaluation as the anticipated impact is so minimal. Since this is a routine matter that will only affect air traffic procedures and air navigation, it is certified that this rule will not have a significant economic impact on a substantial number of a small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS, ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 74000.9P, Airspace Designation and Reporting Points, dated September 1, 2006, and effective September 15, 2006, is amended as follows:

Paragraph 6005 Class E airspace areas extending upward from 700 feet or more above the surface of the earth.

* * * * *

AWP HI E5 Honolulu International Airport, HI [Amended]

Honolulu International Airport

(Lat. 21°19′07″ N., long. 157°55′21″ W.)

Kalaeloa John Rodgers Field

(Lat. 21°18′26″ N., long. 158°04′13″ W.)

Honolulu VORTAC

(Lat. 21°18′30″ N., long. 157°55′50″ W.)

That airspace extending upward from 700 feet above the surface south and southeast of Honolulu International Airport beginning at Lat. 21 20′19″ N., long. 157 49′00″ W., thence southeast to Lat. 21 16′31.15″ N., long. 157 45′11.19″ W., thence east along the shoreline to where the shoreline intercepts the Honolulu VORTAC 15-mile radius, then clockwise along the 15-mile radius of the Honolulu VORTAC to intercept the Honolulu VORTAC 241 radial, then northeast bound along the Honolulu VORTAC 241 radial to intercept the 4.3-mile radius south of Kalaeloa, John Rogers Field, then counterclockwise along the arc of the 4.3 mile radius of Kalaeloa John Rogers field to and counterclockwise along the arc of a 5-mile radius of the Honolulu VORTAC to the Honolulu VORTAC 106[deg] radial, then westbound along the Honolulu 106[deg] radial to the 4-mile radius of the Honolulu VORTAC, then counterclockwise along the 4-mile radius to intercept the Honolulu VORTAC 071[deg] radial, thence to the point of beginning and that airspace beginning at Lat. 21 10′25″ N., long. 158 11′22″ W.; to Lat. 21 16′05″ long. 158 14′35″ W.; to Lat. 21 16′30″ N., long. 158 13′46″ W., to Lat. 21 16′50″ N., long. 158 00′00″ W., to the point of beginning.

* * * * *

Issued in Los Angeles, California, on October 5, 2006.
Leonard A. Mobley,
Acting Area Director, Western Terminal Operations.

[FR Doc. 06-8791 Filed 10-19-06; 8:45 am]

BILLING CODE 4910-13-M